FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 011679-016.

Agreement Name: ASA/SPC Agreement.

Parties: COSCO Shipping Lines Company, Ltd.; Evergreen Line Joint Service; HMM Company Limited; Kawasaki Kisen Kaisha, Ltd.; Mitsui O.S.K. Lines, Ltd.; Nippon Yusen Kaisha; Ocean Network Express Pte. Ltd.; Orient Overseas Container Line Ltd.; Wan Hai Lines Ltd.; and Yang Ming Marine Transport Corporation.

Filing Party: Robert Magovern; Cozen O'Connor.

Synopsis: The Amendment updates the name of the agreement to ASA/SPC Agreement, updates the name of Hyundai Merchant Marine Co., Ltd., and deletes APL Co. Pte Ltd., American President Lines Ltd., and ANL Singapore Pte Ltd. as parties to the agreement. The Amendment also adds Ocean Network Express Pte. Ltd. as a party to the agreement.

Proposed Effective Date: 12/7/2023.

Location: https://www2.fmc.gov/FMC.Agreements.Web/Public/AgreementHistory/668.

Agreement No.: 201413.

Agreement Name: Turkon/Arkas Space Charter and Sailing Agreement.

Parties: Turkon Konteyner Tasimacilik ve Denizcilik A.S. d/b/a Turkon Container Transportation & Shipping Inc.; Arkas Konteyner Tasimacilik A.S.

Filing Party: Wayne Rohde; Cozen O'Connor.

Synopsis: The Agreement authorizes the parties to operate a service between the U.S. East Coast on the one hand and Spain, Turkey, Morocco and Egypt on the other hand.

Proposed Effective Date: 12/8/2023.

Location: https://www2.fmc.gov/FMC.Agreements.Web/Public/AgreementHistory/84533.

Dated: December 8, 2023.
Alanna Beck,
Federal Register Alternate Liaison Officer, Federal Maritime Commission.

[FR Doc. 2023-27395 Filed 12-13-23; 8:45 am]

BILLING CODE 6730-02-P